ENVIRONMENTAL PROTECTION AGENCY

[FRL-9717-9]

Notice of Administrative Settlement Agreement for Recovery of Past Response Costs Pursuant to the Comprehensive Environmental Response, Compensation, and Liability Act of 1980, as Amended

AGENCY: Environmental Protection Agency.

ACTION: Notice; Request for Public Comment.

SUMMARY: In accordance with the Comprehensive Environmental Response, Compensation, and Liability Act (“CERCLA”), notice is hereby given that a proposed administrative settlement agreement for recovery of past response costs (“Proposed Agreement”) associated with Hamburg Mill Creek Superfund Site, Berks County, Pennsylvania was executed by the Environmental Protection Agency (“EPA”) and is now subject to public comment, after which EPA may modify or withdraw its consent if comments received disclose facts or considerations that indicate that the Proposed Agreement is inappropriate, improper, or inadequate. The Proposed Agreement would resolve potential EPA claims under Section 107(a) of CERCLA, against Weis Markets Inc. (“Settling Party”). The Proposed Agreement would require Settling Party to reimburse EPA $30,000.00 for past response costs incurred by EPA for the Site.

For thirty (30) days following the date of publication of this notice, EPA will receive written comments relating to the Proposed Agreement. EPA's response to any comments received will be available for public inspection at the U.S. Environmental Protection Agency, Region III, 1650 Arch Street, Philadelphia, PA 19103.

DATES: Comments must be submitted on or before thirty (30) days after the date of publication of this notice.

ADDRESSES: The Proposed Agreement and additional background information relating to the Proposed Agreement are available for public inspection at the U.S. Environmental Protection Agency, Region III, 1650 Arch Street, Philadelphia, PA 19103. A copy of the Proposed Agreement may be obtained from Jefferie E. Garcia (3RC42), Senior Assistant Regional Counsel, U.S. Environmental Protection Agency, 1650 Arch Street, Philadelphia, PA 19103. Comments should reference the “Hamburg Mill Creek Superfund Site, Proposed Administrative Settlement Agreement for Recovery of Past Response Costs” and “EPA Docket No. CERCLA-03-2012-0154CR,” and should be forwarded to Jefferie E. Garcia at the above address.

FOR FURTHER INFORMATION CONTACT: Jefferie E. Garcia (3RC42), U.S. Environmental Protection Agency, 1650 Arch Street, Philadelphia, PA 19103, Phone: (215) 814-2697; garcia.jefferie@epa.gov.

Dated: August 8, 2012.
Ronald Borsellino,
Director, Hazardous Site Cleanup Division, U.S. Environmental Protection Agency, Region III.

[FR Doc. 2012-20276 Filed 8-16-12; 8:45 am]

BILLING CODE P